DEPARTMENT OF AGRICULTURE

Animal and Plant Health Inspection Service

[Docket No. APHIS-2017-0104]

General Conference Committee of the National Poultry Improvement Plan and 44th Biennial Conference

AGENCY: Animal and Plant Health Inspection Service, USDA.

ACTION: Notice of meeting.

SUMMARY: We are giving notice of a meeting of the General Conference Committee of the National Poultry Improvement Plan (NPIP) and the NPIP's 44th Biennial Conference.

DATES: The General Conference Committee meeting will be held on June 26, 2018, from 1:30 p.m. to 5:30 p.m. The General Session of the Biennial Conference will be held on June 27, 2018, from 8 a.m. to 5 p.m. and June 28, 2018, from 8 a.m. to 12:30 p.m.

ADDRESSES: The meeting and conference will be held at the Franklin Marriott Cool Springs, 700 Cool Springs Boulevard, Franklin, TN 37067.

FOR FURTHER INFORMATION CONTACT: Dr. Denise Heard, Senior Coordinator, National Poultry Improvement Plan, VS, APHIS, USDA, 1506 Klondike Road, Suite 101, Conyers, GA 30094; (770) 922-3496.

SUPPLEMENTARY INFORMATION: The General Conference Committee (the Committee) of the National Poultry Improvement Plan (NPIP), representing cooperating State agencies and poultry industry members, serves an essential function by acting as liaison between the poultry industry and the Department in matters pertaining to poultry health.

Topics for discussion at the upcoming meeting include:

1. NPIP approval of new diagnostic tests.

2. Salmonella update.

3. National Veterinary Services Laboratories avian influenza update.

4. Mycoplasma update.

The meeting will be open to the public; however, public participation in discussions during the sessions will only be allowed if time permits. Written statements may be filed at the meeting or filed with the Committee before or after the meeting by sending them to the person listed under FOR FURTHER INFORMATION CONTACT. Please refer to Docket No. APHIS-2017-0104 when submitting your statements.

This notice of meeting is given pursuant to section 10 of the Federal Advisory Committee Act (5 U.S.C. App. 2).

Done in Washington, DC, this 3rd day of April 2018.
Kevin Shea,
Administrator, Animal and Plant Health Inspection Service.

[FR Doc. 2018-07075 Filed 4-6-18; 8:45 am]

BILLING CODE 3410-34-P